DEPARTMENT OF JUSTICE

United States Parole Commission

Public Announcement; Pursuant to The Government in The Sunshine Act (Pub. L. 94-409) [5 U.S.C. Section 552b]

AGENCY HOLDING MEETING: Department of Justice, United States Parole Commission.

TIME AND DATE: 10 a.m., February 10, 2011.

PLACE: 5550 Friendship Blvd., Fourth Floor, Chevy Chase, MD 20815.

STATUS:

Open

MATTERS TO BE CONSIDERED: The following matters have been placed on the agenda for the open Parole Commission meeting:

1. Approval of Minutes for October, November and December 2010 Quarterly Business Meetings.

2. Reports from the Chairman, Commissioners and Section Administrators.

AGENCY CONTACT: Patricia W. Moore, Staff Assistant to the Chairman, United States Parole Commission, (301) 492-5933.

Dated: February 1, 2011.
Rockne J. Chickinell,
General Counsel, U.S. Parole Commission.

[FR Doc. 2011-2670 Filed 2-8-11; 8:45 am]

BILLING CODE 4410-31-M